FEDERAL MARITIME COMMISSION

Notice of Agreement Filed

The Commission hereby gives notice of the filing of the following agreement under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011847-002.

Title: Pacific Gulf Express Agreement.

Parties: CMA CGM, S.A.; P&O Nedlloyd Limited; and P&O Nedlloyd B.V.

Filing Party: Neal M. Mayer, Esq.; Hoppel, Mayer & Coleman; 1000 Connecticut Avenue, NW.; Washington, DC 20036.

Synopsis: The amendment increases the size of the vessels deployed under the agreement and makes corresponding adjustments in the space allocation.

By Order of the Federal Maritime Commission.
Dated: August 26, 2005.
Karen V. Gregory,
Assistant Secretary.

[FR Doc. 05-17338 Filed 8-30-05; 8:45 am]

BILLING CODE 6730-01-P